NATIONAL AERONAUTICS AND SPACE ADMINISTRATION

[Notice: (16-051)]

NASA Advisory Council; Science Committee; Meeting.

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, July 25, 2016, 1:00 p.m.-5:30 p.m., Local Time; Tuesday, July 26, 2016, 8:45 a.m.—5:15 p.m.; Local Time; and Wednesday, July 27, 2016, 8:30 a.m.-10:00 a.m., Local Time.

ADDRESSES: Ohio Aerospace Institute, Industry Room B, 22800 Cedar Point Road, Cleveland, Ohio 44142.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. This meeting will also be available telephonically and by WebEx. You must use a touch-tone phone to participate in this meeting. Any person interested in joining the meeting may call the USA toll free conference call number 1-888-790-1716, passcode 4101817, or toll number 1-212-287-1654, passcode 4101817, for all three days. If dialing in, please “mute” your telephone. The WebEx link is https://nasa.webex.com/; the meeting number is 992 934 159 and the password is SC@July2016 (case sensitive) for all three days. The agenda for the meeting includes the following topics:

—Science Mission Directorate Division Updates

—NAC Science Committee Subcommittee Reports

—Planetary Defense Coordination Office

—Harmful Algal Blooms

—Joint Session with the NAC Ad Hoc Task Force on STEM Education

Attendees will be required to sign a register. It is imperative that this meeting be held on these dates to accommodate the scheduling priorities of the key participants.

Patricia D. Rausch,
Advisory Committee Management Officer, National Aeronautics and Space Administration.

[FR Doc. 2016-16186 Filed 7-7-16; 8:45 am]

BILLING CODE 7510-13-P